DEPARTMENT OF HOMELAND SECURITY

Coast Guard

[USCG-2006-24047]

Collection of Information Under Review by Office of Management and Budget: OMB Control Number 1625-0046

AGENCY: Coast Guard, DHS.

ACTION: Reopening comment period.

SUMMARY: On March 7, 2006, the Coast Guard published a notice in the Federal Register requesting comments on our intent to submit an Information Collection Request (ICR) to OMB to seek their renewal of an approval of a collection of information under OMB control number 1625-0046, Financial Responsibility for Water Pollution (Vessels). In that notice we stated that the complete ICR would be available through both our online docket and at a Coast Guard facility in Washington, DC. Because the complete ICR was not made available online during the stated comment period we are reopening the comment period until July 3, 2006.

DATES: Please submit comments on or before July 3, 2006.

ADDRESSES: To make sure that your comments and related material do not enter the docket [USCG-2006-24047] more than once, please submit them by only one of the following means:

(1) By mail to the Docket Management Facility, U.S. Department of Transportation (DOT), room PL-401, 400 Seventh Street SW, Washington, DC 20590-0001.

(2) By delivery to room PL-401 on the Plaza level of the Nassif Building,400 Seventh Street SW, Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW, Washington, DC, between 9 a.m. and 5 p.m., Monday through Friday, except Federal holidays. You may also find this docket on the Internet at http://dms.dot.gov.

Copies of the complete ICR are available through this docket on the Internet at http://dms.dot.gov, and also from Commandant (CG-611), U.S. Coast Guard Headquarters, (Attn: Ms Barbara Davis), 2100 2nd Street SW, Washington, DC 20593-0001. The telephone number is 202-475-3523.

FOR FURTHER INFORMATION CONTACT: Ms Barbara Davis, Office of Information Management, telephone 202-475-3523, or fax 202-475-3929, for questions on this document; or telephone Ms. Renee V. Wright, Program Manager, Docket Operations, 202-493-0402, for questions on the docket.

SUPPLEMENTARY INFORMATION:

Public participation and request for comments

We encourage you to respond to this request for comments by submitting comments and related materials. We will post all comments received, without change, to http://dms.dot.gov; they will include any personal information you have provided. We have an agreement with DOT to use the Docket Management Facility. Please see the paragraph on DOT's “Privacy Act Policy” below.

Submitting comments: If you submit a comment, please include your name and address, identify the docket number [USCG-2006-24047], indicate the specific section of the document to which each comment applies, and give the reason for each comment. You may submit your comments and material by electronic means, mail, fax, or delivery to the Docket Management Facility at the address under ADDRESSES; but please submit them by only one means. If you submit them by mail or delivery, submit them in an unbound format, no larger than 8-1/2 by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street SW, Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Previous Request for Comments

On March 7, 2006, the Coast Guard published a notice in the Federal Register (71 FR 11437) requesting comments on our intent to submit an Information Collection Request to OMB to seek their renewal of an approval of a collection of information under OMB control number 1625-0046, Financial Responsibility for Water Pollution (Vessels). We stated in that notice, the complete ICR would be made available both in our online docket and at a Coast Guard facility in Washington, DC The complete ICR, however, was not made available on-line during the stated comment period, so we are reopening the comment period until July 3, 2006.

Information Collection Request

Title: Financial Responsibility for Water Pollution (Vessels).

OMB Control Number: 1625-0046.

Summary: The Coast Guard will use the information collected under this information collection request to issue a Certificate of Financial Responsibility as required by the Oil Pollution Act (OPA), specifically under 33 U.S.C. 2716, and the Comprehensive Environmental Response, Compensation and Liability Act (CERCLA), specifically under 42 U.S.C. 9608.

Need: If the requested information is not collected, the Coast Guard will be unable to comply with the provisions of OPA and CERCLA to ensure that responsible parties can be held accountable for cleanup costs and damages when there is an oil spill or threat of a spill.

Respondents: Legally responsible operators of vessels subject to 33 U.S.C. 2716 and 42 U.S.C. 9608 or their designees, approved insurers, and financial guarantors.

Frequency: On occasion.

Burden Estimate: The estimated burden remains 2,262 hours a year.

Dated: May 24, 2006.
C.S. Johnson, Jr.,
Captain, U.S. Coast Guard, Acting Assistant Commandant for Command, Control, Communications, Computers and Information Technology.

[FR Doc. E6-8540 Filed 6-1-06; 8:45 am]

BILLING CODE 4910-15-P